DEPARTMENT OF ENERGY

Federal Energy Regulatory Commission

Notice of Application for Amendment of License and Soliciting Comments

March 17, 2000.

Take notice that the following hydroelectric application has been filed with the Commission and is available for public inspection:

a. Type of Application: Five-year Review and Update of Land Use and Shoreline Management Plan.

b. Project No.: 516-318.

c. Date Filed: February 1, 2000.

d. Applicant: South Carolina Electric & Gas Company.

e. Name of Project: Saluda.

f. Location: The project is located in Saluda, Lexington, Newberry and Richland Counties, SC.

g. Filed Pursuant to: Federal Power Act, 16 U.S.C. 791(a)-825(r).

h. Applicant contact: Thomas G. Eppink, Esquire Senior Attorney, South Carolina Electric & Gas Company, Legal Department—130, Columbia, SC 29218, (803) 217-9448 or, Tommy Boozer, Lake Manager, (803) 217-9007.

i. FERC contact: John K. Hannula, (202) 219-0016.

j. Deadline for filing comments, motions to intervene and protest: 30 days from the issuance date of this notice. Please include the project number (516-318) on any comments or motions filed. All documents (original and eight copies) should be filed with: David P. Boergers, Secretary, Federal Energy Regulatory Commission, 888 First Street, NE, Washington, DC 20426.

k. Description of the Application: South Carolina Electric & Gas Company requests Commission approval of its 5-Year Review and Update of its Land Use and Shoreline Management Plan. The 5-year Review and Update considers recreational use, lake management, and land use management of the project shoreline. Specifically, the 5-year Review and Update addresses park improvements, dock policy, buffer zone and forest management, land sales and environmental resources.

l. Locations of the application: A copy of the application is available for inspection and reproduction at the Commission's Public Reference Room, located at 888 First Street, NE, Room 2A, Washington, DC 20426, or by calling (202) 208-1371. The application may be viewed on the web at www.ferc.fed.us/online/rims.htm (Call (202) 208-2222 for assistance). A copy is also available for inspection and reproduction at the addresses in item h above.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS,” “RECOMMENDATIONS FOR TERMS AND CONDITIONS,” “PROTEST”, OR ”MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-7176 Filed 3-22-00; 8:45 am]

BILLING CODE 6717-01-M